DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 8, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of the Secretary, White House Liaison Office

Title: Advisory Committee and Research and Promotion Board Membership Background Information.

OMB Control Number: 0505-0001.

Summary of Collection: The Department is required under Section 1804 of the Food and Agriculture Act of 1977 (7 U.S.C. 2281, et seq.) to provide information concerning advisory committee members' principal place of residence, persons or companies by whom employed, and other major sources of income. The Agriculture and Food Act of 1981 (Pub. L. 97-98) reiterates this requirement. USDA plans to now use the AD-755 form to collect information to appoint members to these MOA Boards. Marketing orders and agreements (MOA) are initiated by industry to help provide stable markets for dairy products, fruits, vegetables and specialty crops. Each order and agreement are tailored to the individual industry's needs. Marketing Orders are a binding regulation for the entire industry in the specified geographical area, once it is approved by the producers and the Secretary of Agriculture. Marketing Agreements are only binding for those handlers that sign the agreement.

R&P Board members under each program are appointed by the Secretary and the Secretary has delegated his appointment authority for the MOA Boards to the mission area Administrator/Under Secretary. Some of the information contained on Form AD-755 is used by the Department to conduct the background clearances of prospective board members required by departmental regulation. The clearance is required for all candidates who are applying to be appointed to a USDA advisory committee or board by the Secretary of Agriculture.

Need and Use of the Information: The White House Liaison Office (WHLO) uses the AD-755 to collect information for the purpose of checking on the background of the nominees to make sure there are no delinquencies to USDA, as well as making sure they have no negative record that could be a negative reflection to the USDA or the Secretary including House and Senate Lobbyist checks.

Additionally, White House Liaison Office includes the AD-755 section for Race, Ethnicity and Gender (REG), veterans, and disability data collection. This data collection is optional but essential to ensure that USDA receives a demographic range of applicants for seats on agriculture related board and committees. Most boards require a specific number of seats for certain constituencies thus the collection of information such as race, ethnicity, and gender (REG), is imperative in the board and committee building process. Under the Federal Advisory Committee Act (FACA) advisory committees must be fairly balanced in membership in terms of points of view represented and the functions to be performed. Therefore, this information will be utilized by the White House Liaison Office and the Office of Assistant Secretary for Civil Rights to determine the approach to outreach for all constituents while constructing each board or committee. If outreach is lower than desired, this information will help the WHLO increase the demographics of applicants and may require additional solicitations for additional outreach for boards and committees across the nation to have a greater pool of applicants.

Description of Respondents: Individuals or households.

Number of Respondents: 6,500.

Frequency of Responses: Reporting: Annually.

Total Burden Hours: 3,250.

Levi S. Harrell,
Departmental Information Collection Clearance Officer.

[FR Doc. 2025-15111 Filed 8-7-25; 8:45 am]

BILLING CODE 3410-01-P